DEPARTMENT OF COMMERCE

International Trade Administration

Initiation of Antidumping and Countervailing Duty Administrative Reviews and Request for Revocation in Part, and Deferral of Administrative Review

Correction

In notice document 2012-7723 appearing on pages 19179-19190 in the issue of Friday, March 30, 2012, make the following correction:

On page 19181, in the table, in the first column, in the last row under the heading “INDIA:”,

Ambica Steels Limited Mukand Ltd.

should read:

Ambica Steels Limited

Mukand Ltd.

[FR Doc. C1-2012-7723 Filed 4-6-12; 8:45 am]

BILLING CODE 1505-01-D